DEPARTMENT OF TRANSPORTATION

Federal Aviation Administration

14 CFR Part 71

[Docket No. FAA-2008-0003; Airspace Docket No. 08-ASW-1]

Establishment of Class E Airspace; Lexington, OK

AGENCY: Federal Aviation Administration (FAA), DOT.

ACTION: Direct final rule; confirmation of effective date.

SUMMARY: This action confirms the effective date of the direct final rule that established Class E airspace at Muldrow Army Heliport, Lexington, OK, published in the Federal Register August 6, 2008 (73 FR 45607) Docket No. FAA-2008-0003.

DATES: Effective Dates: 0901 UTC October 8, 2008. The Director of the Federal Register approves this incorporation by reference action under Title 1, Code of Federal Regulations, part 51, subject to the annual revision of FAA Order 7400.9 and publication of conforming amendments.

FOR FURTHER INFORMATION: Scott Enander, Central Service Center, System Support Group, Federal Aviation Administration, Southwest Region, 2601 Meacham Blvd., Fort Worth, TX 76193-0530; telephone (817) 222-5582.

SUPPLEMENTARY INFORMATION:

History

The FAA published a direct final rule with request for comments in the Federal Register August 6, 2008 (73 FR 45607), Docket No. FAA-2008-0003. This rule established Class E airspace at Muldrow Army Heliport, Lexington, OK. The FAA uses the direct final rule procedure for non-controversial rules where the FAA believes that there will be no adverse public comment. This direct final rule advised the public that no adverse comments were anticipated, and that unless a written adverse comment, or a written notice of intent to submit an adverse comment, was received within the comment period, the regulation would become effective on September 25, 2008. No adverse comments were received; thus, this notice confirms that the direct final rule became effective on this date.

Authority: 49 U.S.C. 106(g), 40103, 40113, 40120; E.O. 10854, 24 FR 9565, 3 CFR, 1959-1963 Comp., p. 389.

* * * * *

Issued in Fort Worth, TX, on September 25, 2008.
Donald R. Smith,
Manager, Operations Support Group, ATO Central Service Center.

[FR Doc. E8-23777 Filed 10-7-08; 8:45 am]

BILLING CODE 4910-13-P